DEPARTMENT OF COMMERCE

National Oceanic and Atmospheric Administration

Proposed Information Collection; Comment Request; Evaluation of the Pacific Islands Managed and Protected Area Community (PIMPAC)

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 7, 2019.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Michael Lameier, Habitat Conservation Division, Pacific Islands Regional Office, 1845 Wasp Blvd., Building 176, Honolulu, HI 96818, (808) 725 5085, michael.lameier@noaa.gov.

SUPPLEMENTARY INFORMATION:

I. Abstract

This request is for a new collection of information. The aim of the study is to understand the effectiveness of the capacity development efforts of the Pacific Islands Managed and Protected Area Community, as known as PIMPAC. The survey will assess to what extent PIMPAC has developed human and organizational capacities to enhance protected area management in the Pacific island region. Results of the survey are expected to help guide and improve the effectiveness of capacity development activities by PIMPAC for protected area management in the next ten years.

II. Methods of Collection

The survey will be conducted using in-person, one on one interviews and phone interviews.

III. Data

OMB Control Number: 0648-xxxx.

Form Number(s): None.

Type of Review: Regular submission (request for a new information collection).

Affected Public: Individuals or households, not-for-profit institutions; state, local, and federal government.

Estimated Number of Respondents: 80.

Estimated Time per Response: 30 minutes per survey and 1 hour per interview.

Estimated Total Annual Burden Hours: 50 hours.

Estimated Total Annual Cost to Public: $0 in record keeping/reporting.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 1, 2018.
Sarah Brabson,
NOAA PRA Clearance Officer.

[FR Doc. 2018-24276 Filed 11-6-18; 8:45 am]

BILLING CODE 3510-22-P